DEPARTMENT OF HOUSING AND URBAN DEVELOPMENT

[Docket No. FR-7070-N-68]

30-Day Notice of Proposed Information Collection: Project Based Vouchers (PBV) Online Form; OMB Control No.: 2577-0296

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: November 13, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 451 7th Street SW, Room 4186, Washington, DC 20410; telephone 202-402-3400 (this is not a toll-free number) or email at Colette.Pollard@hud.gov. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

The Federal Register notice that solicited public comment on the information collection for a period of 60 days was published on May 4, 2023 at 88 FR 28594.

A. Overview of Information Collection

Title of Information Collection: Project Based Vouchers (PBV) Online Form.

OMB Approval Number: 2577-0296.

Type of Request: Revision of a currently approved collection.

Form Number: HUD is developing a standardized electronic system that will collect this information. Within the scope of this collection, HUD requests the information in this notice from Public Housing Authorities (PHA) participating in the PBV program.

Description of the need for the information and proposed use: PHAs apply for funding to assist low-income families to lease housing. One of the programs through which PHAs provide housing assistance is the Housing Choice Voucher (HCV) Program, a tenant-based rental assistance program. This program operates by providing vouchers that cover a portion of the rent to owner for a unit. Some PHAs project-base their vouchers (the rental assistance is connected to a unit, not a family). Project-based vouchers (PBVs) are becoming a larger percentage of PHAs overall HCV portfolios, rising from just over 110,000 in 2016 to approximately 307,000 at the end of 2022. The PBV portfolio is expected to grow even more with the on-going conversion of up to 455,000 public housing units to project-based assistance under the Congressionally authorized Rental Assistance Demonstration (RAD). HUD currently collects information on individual participants in the HCV program who are in PBV units.

This leaves a gap in HUD's information collection of PBVs between the individual tenant data and the aggregated PHA data. HUD does not systematically collect information on the development or project level, including the number of units at PBV projects, what exceptions apply, their rents, the terms of contract, and numerous other potential data points. This creates a challenge for monitoring, tracking and analyzing PBV projects, and limits HUD's ability to respond to requests for information on the PBV program from Congress and other sources. Additionally, it prevents HUD from having data with which to make informed decisions on risk-mitigation strategies with respect to PBVs.

Potential risks are particularly heightened in the case of RAD PBV where a PHA-owned property is required to have an independent entity that performs inspections and determines rent adjustments. Currently, HUD has limited information about RAD PBV properties after conversion and is unable to adequately monitor their long-term viability. Through this collection, HUD is requiring the submission of project-level data on all PBVs, including but not limited to RAD PBV, Mixed Finance PBVs, all PBVs at Moving to Work (MTW) Agencies, and all PBVs at non-MTW Agencies.

Field Changes:

This data collection will be renewing the following fields of collection for PBV:

• HAP Contract Number

• Name of Project

• Primary Street Address

• Structure Type

• Effective Date of HAP Contract

• Expiration Date of HAP Contract

• Type of Project Based Voucher Section 8 Contract

• Is this a RAD HAP contract?

• Vacancy Payments Permitted?

• Ownership Structure

• If PHA-Owned: Name of Independent Entity or Entities

• Number of Total Units in the Project (PBV and non-PBV units)

• Number of Units Under HAP Contract by Bedroom Size

• Number and Bedroom Distribution of PBV-Assisted Section 504 Units at the Project

• Does an Exception to the Income-Mixing Requirement Apply?

• If Yes, which exception is applicable?

• Program Cap Exception?

• If yes, enter the number of units for each excepted category.

In addition to the data fields previously reviewed and approved by OMB, this PRA renewal includes new fields specific for RAD PBV projects that will need to be completed for each project with a RAD PBV HAP Contract annually.

The new fields of collection for RAD PBV projects include:

• Annual Replacement Reserve Deposit Amount

• Annual Replacement Reserve Withdrawal Amount

• Ending Balance for the Replacement Reserve Account

• Replacement Reserve Deposits Suspended/Waived Indicator?

• Date Replacement Reserve Deposits Suspended/Waived?

Within the PRA renewal the following fields will be discontinued and deleted from the form:

• Number of Units Under AHAP

• Effective Date(s) of AHAP

• Owner Name

• Owner Tax ID

• Management Entity

• Other Related Programs: Tax Credit, RAD, HUD-insured, VASH, or Other

• Population Served: General, Homeless, Veterans, Families Eligible for Supportive Services, Families Receiving Supportive Services, Elderly Family, Disabled Family

• Supportive Services Available (Y/N)?

• Unique Project Building Code

• Number of RAD PBVs

• Use Restriction End Date

• Year Built

HUD recognizes that some of this information may be submitted to HUD, for instance as part of the initial subsidy layering review process, however, these submissions are insufficient to give HUD a universal and currently accurate picture of the PBV universe. Therefore, HUD is proposing this information collection.

Definitions

HAP Contract Number

This is a unique number generated by the system when a new HAP Contract is entered into the HIP.

Name of Project

The name of the project as determined by the PHA as used in public or property records (where such records contain a name of the property as a whole) or the commonly used name of the project (such as the name on a sign at the property entrance). If no such name exists, a name for the project designated by the PHA for use in the system. “Project” is defined consistent with 24 CFR 983.3(b) as “a single building, multiple contiguous buildings, or multiple buildings on contiguous parcels of land.”

Primary Street Address

The street address (including text fields for city, state, and zip code) of the building or buildings covered by the HAP contract and all units covered under the HAP contract.

Structure Type

The most closely matching description of the project from among this list: Single-Family and Non-Single-Family. Single-family is defined in the 24 CFR 983.3(b) as “a building with no more than four dwelling units (assisted or unassisted).”

Effective Date of HAP Contract

Effective date listed in § 1(d) of Part 1 of the HAP contract. A single-stage project will have the same effective date for all contract units. For a multi-stage project, include the effective date of the first stage of the HAP contract. If the HAP contract has multiple stages, enter the effective date of the first stage.

Expiration Date of HAP Contract

The HAP contract term end date, as determined by adding the length of the HAP contract term (initial and any extensions) to the effective date listed in § 1(d) of Part 1 of the HAP contract (for a multi-stage project, use the effective date of the first stage). The length of the initial and extension HAP contract terms shall be those listed in the HAP contract (for existing projects: § 1(d) of Part 1 of the Form HUD-52530-B HUD and associated exhibits; for newly constructed and rehabilitated projects: § 1(e) of Part 1 of the Form HUD-52530- A and associated exhibits).

Type of Project Based Section 8 Contract

The following definitions apply consistent with 24 CFR 983.3(b), as amended by 82 FR 5458 (Jan. 18, 2017), 82 FR 32461 (Jul. 14, 2017):

a. Existing Housing. Housing units that already exist on the proposal selection date and that substantially comply with the Housing Quality Standards (HQS) on that date.

b. Rehabilitated Housing. Housing units that exist on the proposal selection date, but do not substantially comply with the Housing Quality Standards (HQS) on that date, and are developed, pursuant to an agreement between the PHA and owner, for use under the PBV program.

c. Newly Constructed Housing. Housing units that do not exist on the proposal selection date and are developed after the date of selection pursuant to an agreement between the PHA and owner for use under the PBV program. Upon amendment of 24 CFR 983.3(b), the new definitions therein will supersede the definitions listed here.

Is this a RAD HAP contract?

RAD PBV HAP Contract: A HAP contract for units in a post-conversion property in which assistance was converted from a non-PBV form of rental assistance to PBV under RAD (“Covered Project”), where the contract is for only those units converted to PBV under RAD (“RAD PBV units”). This includes a contract for RAD PBV units that are located in a Covered Project converted through a transfer of assistance.

Non-RAD PBV HAP Contract: A HAP contract for PBV units, none of which were converted to PBV under RAD (“non-RAD PBV units”). This includes a contract for non-RAD PBV units that are located within a property that also contains units that were converted under RAD.

Vacancy payments permitted?

Provide an answer (yes/no) to the question of whether the PHA has included the vacancy payment provision in this HAP contract (for existing projects: § 1(e)(2) of Part 1 of the Form HUD-52530-B HUD; for newly constructed and rehabilitated projects: § 1(f)(2) of Part 1 of the Form HUD-52530-A).

Ownership Structure

The following definitions apply consistent with 24 CFR part 983, as amended by 82 FR 5458 (Jan. 18, 2017), 82 FR 32461 (Jul. 14, 2017):

a. PHA-owned:

—Owned by the PHA (which includes a PHA having a “controlling interest” in the entity that owns the unit);

—Owned; or

—Owned by a limited liability company (LLC) or limited partnership in which the PHA (or an entity wholly controlled by the PHA) holds a controlling interest in the managing member or general partner.

“Controlling interest” means:

i. Holding more than 50 percent of the stock of any corporation;

ii. Having the power to appoint more than 50 percent of the members of the board of directors of a non-stock corporation (such as a non-profit corporation);

iii. Where more than 50 percent of the members of the board of directors of any corporation also serve as directors, officers, or employees of the PHA;

iv. Holding more than 50 percent of all managing member interests in an LLC;

v. Holding more than 50 percent of all general partner interests in a partnership; or

vi. Having equivalent levels of control in other ownership structures. Most ownership structures are already covered in the categories listed above. This last category is meant to cover any ownership structure not already listed in the categories above. Also, under this category (f), a PHA must have more than 50 percent control in that ownership structure (an equivalent level of control) for the project to be considered PHA-owned.

b. PHA ownership interest but not PHA Owned: An ownership interest means that the PHA or its officers, employees, or agents are in an entity that holds any direct or indirect interest in the project in which the units are located, including, but not limited to, an interest as:

—Titleholder;

—Lessee;

—Stockholder;

—Member, or general or limited partner; or

—Member of a limited liability corporation.

c. Not PHA-Owned and No PHA Ownership interest: The PHA does not own or has no ownership interest in the property.

Upon amendment of 24 CFR part 983, the new definitions therein will supersede the definitions listed above.

If PHA-Owned: Name of Independent Entity or Entities

If the project is PHA-Owned, the independent entity or entities which perform the following functions consistent with 24 CFR part 983: 1. Review the PHA's PBV selection process. 2. Establish PBV contract rents (initial rent to owner and redetermined rent to owner). 3. Determine rent reasonableness. 4. Provide a copy of the rent reasonableness determination to the PHA and the HUD field office where the project is located. 5. Establish term of initial and any renewal HAP contract as required in 24 CFR 983.205. 6. Inspect units. 7. Provide a copy of the inspection report to PHA and HUD field office where the project is located.

MTW PHAs with waivers may write in themselves as the independent entity.

Instructions: If user identifies the project as PHA-Owned then the user must list the independent entity(s).

Number of Total Units in the Project (PBV and Non-PBV Units)

Total number of units (PBV and non-PBV units) in the project, including those covered by an AHAP or HAP contract and non-contract units.

Number of Units Under HAP Contract by Bedroom Size

Total number of contract units in the project covered by the HAP contract, broken out by each bedroom size (0, 1, 2, 3, 4, 5+).

Number and Bedroom Distribution of PBV-Assisted Section 504 Units at the Project

This field captures the number of PBV-assisted units for each category listed below, broken out by each bedroom size (0, 1, 2, 3, 4, 5+), at the project that are accessible for persons with mobility impairments in accordance with Section 504 of the Rehabilitation Act of 1973 and HUD's implementing regulations at 24 CFR part 8.

• Section 504 Mobility Units

• Section 504 Hearing Vision Units

• Section 504 Mobility + Hearing Vision Units

Such units must meet either the Uniform Federal Accessibility Standards (UFAS) or 2010 Americans with Disabilities Act (ADA) Standards (in accordance with HUD's Deeming Notice published in the Federal Register on May 23, 2014 (79 FR 29671)).

Does an exception to the income mixing requirement apply?

Provide an answer (yes/no) to the question of whether the project qualifies for an exception to the income-mixing requirement under 24 CFR 983.56, and applicable guidance. Applicable program guidance includes, but is not limited to: 82 FR 5458 (Jan. 18, 2017), 82 FR 32461 (Jul. 14, 2017); 86 FR 53207 (Sept. 27, 2021); 87 FR 3570 (Jan. 24, 2022).

If Yes, Which Exceptions(s)

Choose the applicable exception from among those allowed by 24 CFR 983.56, as amended by 82 FR 5458 (Jan. 18, 2017), 82 FR 32461 (Jul. 14, 2017). The definitions of the exception categories are found in the following locations:

a. Units that are exclusively made available to households eligible for supportive services: PIH Notice 2017-21, Attachment E.

b. Units that are specifically made available for families receiving supportive services: PIH Notice 2017-21, Attachment E, for grandfathered projects as described therein.

c. Units that are exclusively made available to elderly families: PIH Notice 2017-21, Attachment E.

d. Units that are specifically made available for disabled families: PIH Notice 2017-21, Attachment E, for grandfathered projects as described therein.

e. Units located in a census tract with a poverty rate of 20 percent or less: PIH Notice 2017-21, Attachment E.

f. Units that were previously subject to certain federal rent restrictions or receiving another type of long-term housing subsidy provided by HUD: PIH Notice 2017-21, Attachment F, for projects that meet the additional requirements as described therein.

g. Units that are exclusively made available to eligible youth receiving FUP/FYI assistance: FR-6284-N-01

h. HUD-VASH vouchers: 86 FR 53207 (Sept. 27, 2021). Upon amendment of 24 CFR part 983, the new definitions therein will supersede the definitions listed here.

i. MTW Waiver Authority: MTW agencies may increase PBV project caps under certain provisions of section 8(o)(13)(D) of the 1937 Act and 24 CFR 983.56(a)-(b), as superseded by HOTMA Implementation Notices at 82 FR 5458 and 82 FR 32461 (see implementation guidance in Notice PIH 2017-21). The standard agreement may also provide additional PBV flexibilities, including the ability to waive provisions in 24 CFR part 983.

Program cap exception?

Provide an answer (yes/no) to the question of whether the project qualifies for an exception to the program cap under 24 CFR 983.6, as amended by 82 FR 5458 (Jan. 18, 2017), 82 FR 32461 (Jul. 14, 2017).

If yes, under which category do they qualify?

Enter the number of excepted units from those allowed by 24 CFR 983.6, as amended by 82 FR 5458 (Jan. 18, 2017), 82 FR 32461 (Jul. 14, 2017). The definitions of the exception categories are found in the following locations:

○ Units that are specifically made available to house homeless individuals and families: PIH Notice 2017-21.

○ Units that are specifically made available to house families that are comprised of or include a veteran: PIH Notice 2017-21.

○ Units that provide supportive housing to persons with disabilities or to elderly persons: PIH Notice 2017-21.

○ Units located in a census tract with a poverty rate of 20 percent or less: PIH Notice 2017-21.

○ Units that were previously subject to certain federal rent restrictions or receiving another type of long-term housing subsidy provided by HUD: PIH Notice 2017-21, for projects that meet the additional requirements as described therein.

○ Units that house eligible youth receiving FUP/FYI assistance: FR-6284-N-01.

○ HUD-VASH vouchers specifically awarded by HUD for project-based assistance: PIH Notice 2017-21. Upon amendment of 24 CFR part 983, the new definitions therein will supersede the definitions listed here.

○ MTW Waiver Authority: MTW agencies may increase PBV program caps under certain provisions of section 8(o)(13)(B) of the 1937 Act and 24 CFR 983.6(a)-(b), as superseded by the Housing Opportunity through Modernization Act of 2016 (HOTMA) Implementation Notices at 82 FR 5458 and 82 FR 32461 (see implementation guidance in Notice PIH 2017-21). The standard agreement may also provide additional PBV flexibilities, including the ability to waive provisions in 2.

Annual Replacement Reserve Deposit Amount

Specified in the RCC, this is the required annual amount that is to be deposited into the project's replacement reserve account.

Annual Replacement Reserve Withdrawal Amount

The total amount of funds withdrawn from the project's replacement reserve account within a given year (12-month period) to fund capital repairs.

Ending Balance for the Replacement Reserve Account

The ending balance of the replacement reserve account after all transactions (withdrawals and deposits) in a given 12-month period are accounted for.

Replacement Reserve Deposits Suspended/Waived Indicator?

Provide an answer (yes/no) to the question of whether a request to suspend/waive deposits to the replacement reserve was submitted by the Owner and approved by HUD for a given project.

Date Replacement Reserve Deposits Suspended/Waived?

If the response to “Replacement Reserve Deposits Suspended/Waived Indicator” is “yes”, provide the date HUD approved the request for replacement reserve deposits to be suspended/waived.

Burden Estimate

Respondents: Public housing authorities (PHAs) that have project-based vouchers (PBVs) as a part of their portfolio.

Estimated Number of Respondents: 819.

Estimated Number of Responses: 4,914.

Frequency of Response: 6.

Average Hours per Response: 1.5.

Total Estimated Burdens: 7,371.

Information collection | Number of respondents | Frequency of response | Responses per annum | Burden hour per response | Annual burden hours | Hourly cost per response | Annual cost
PBV Property Information | 819 | 6 | 4,914 | 1.5 | 7,371 | $44.71 | $329,557

Our burden estimate for the number of respondents is based on a recent VMS total of the number of PHAs reporting PBVs in VMS and accounting for the subset of PBVs that are RAD. Specific to projects with a RAD PBV HAP Contract, the RAD Notice requires Project Owners to establish and maintain a replacement reserve in an interest-bearing account. At this time, there are approximately 1,200 projects with a RAD PBV HAP contract for which this requirement is applicable. To track the replacement reserve requirement, HUD is requesting PHA response to 3-5 questions for each project with a RAD PBV HAP Contract.

It is assumed PHAs will have to do a one-time submission for all the projects and potentially make updates when changes occur to the PBV projects (frequency of responses). It is anticipated that this cost will decline in subsequent years as PHAs will only need to make the following updates:

• Changes to HAP contract information already entered into the system for PBV projects; and

• Responses to 3-5 questions (as applicable) regarding the replacement reserve account for each RAD project where the PHA serves as a contract administrator.

The “responses per annum” represents an estimate of the amount of PBV projects that will need to be entered into the system. This number is multiplied by the frequency of responses to arrive at an annual estimate of burden hours. This is then multiplied by median average wage of a “Management Analyst” according to the Bureau of Labor Statistics for 2021 to arrive at a total annual cost.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. 3507.

Colette Pollard,
Department Reports Management Officer, Office of Policy Development and Research, Chief Data Officer.

[FR Doc. 2023-22642 Filed 10-12-23; 8:45 am]

BILLING CODE 4210-67-P